DEPARTMENT OF ENERGY

Federal Energy Regulatory Commission

[Docket No. RP00-568-000]

Viking Gas Transmission Company; Notice of Tariff Filing

September 28, 2000.

Take notice that on September 25, 2000, Viking Gas Transmission Company (Viking) tendered for filing as part of its FERC Gas Tariff, First Revised Volume No. 1, the following tariff sheets:

Fourth Revised Sheet No. 72

Second Revised Sheet No. 79

Seventh Revised Sheet No. 86

Second Revised Sheet No. 86A

Viking states that the purpose of this filing is to comply with the Commission's requirement in Order No. 637, Regulation of Short-Term Natural Gas Transportation Service and Regulation of Interstate Natural Gas Transportation Services, FERC Regulations Preambles ¶31,091 (February 9, 2000) that pipelines remove tariff provisions that are inconsistent with the removal of the maximum ceiling rate for short-term capacity release transactions. Viking is also clarifying its tariff to better reflect current Commission policy on the right of first refusal (ROFR).

Viking requests an effective date of March 27, 2000 for Sheet Nos. 72 and 79 (capacity release provisions) to coincide with the effective date of Order No. 637 and accordingly requests waiver of the Commission's notice requirements, Viking requests an effective date of October 25, 2000 for Sheet Nos. 86 and 86A (ROFR provisions).

Viking further states that copies of this filing have been served on all Viking's jurisdictional customers and to affected state regulatory commissions.

Any person desiring to be heard or to protest said filing should file a motion to intervene or a protest with the Federal Energy Regulatory Commission, 888 First Street NE., Washington, DC 20426, in accorrdance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25418 Filed 10-3-00; 8:45 am]

BILLING CODE 6717-01-M